ENVIRONMENTAL PROTECTION AGENCY

40 CFR Part 52

[EPA-R03-OAR-2005-MD-0015; FRL-8021-1]

Approval and Promulgation of Air Quality Implementation Plans; Maryland; Revised Definition of Interruptible Gas Service

AGENCY: Environmental Protection Agency (EPA).

ACTION: Proposed rule.

SUMMARY: EPA is proposing to approve a State Implementation Plan (SIP) revision submitted by the Maryland Department of the Environment. This revision amends the regulation pertaining to the control of fuel-burning equipment, stationary internal combustion engines, and certain fuel burning installations. The revision clarifies the definition of “interruptible gas service”. This action is being taken under the Clean Air Act (CAA or the Act).

DATES: Written comments must be received on or before February 13, 2006.

ADDRESSES: Submit your comments, identified by Docket ID Number EPA-R03-OAR-2005-MD-0015 by one of the following methods:

A. http://www.regulations.gov. Follow the on-line instructions for submitting comments.

B. E-mail: morris.makeba@epa.gov.

C. Mail: EPA-R03-OAR-2005-MD-0015, Makeba Morris, Chief, Air Quality Planning Branch, Mailcode 3AP21, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2005-MD-0015. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov or e-mail. The EPA http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy during normal business hours at the Air Protection Division, U.S. Environmental Protection Agency, Region III, 1650 Arch Street, Philadelphia, Pennsylvania 19103. Copies of the State submittal are available at the Maryland Department of the Environment, 1800 Washington Boulevard, Suite 705, Baltimore, Maryland, 21230.

FOR FURTHER INFORMATION CONTACT: Helene Drago, (215) 814-5796, or by e-mail at drago.helene@epa.gov.

SUPPLEMENTARY INFORMATION: On October 31, 2005, the Maryland Department of the Environment submitted a revision to its State Implementation Plan (SIP). The revision clarifies the definition of “interruptible gas service”. The revision consists of amendments to Regulation .01 under COMAR 26.11.09 Control of Fuel Burning Equipment, Stationary Internal Combustion Engines and Certain Fuel-Burning Installations.

I. Background

The Maryland Department of the Environment developed as one of its control strategies for particulate matter, a requirement to install a mechanical dust collector on fuel burning equipment burning residual fuel oil. This requirement applied in the Baltimore/Washington areas.

When the dust collector requirement was developed, it was the normal practice for gas suppliers to interrupt gas service for several days up to two weeks when gas supply was low. Gas customers that had dual firing capability had no choice but to burn oil during the interruptible period. At that time a question arose as to the applicability of the dust collector requirement for those sources that burn residual oil when the gas service was interrupted. In response to that question, the term “interruptible gas service” was defined. The regulation provided an exemption from the dust collector requirement for sources that burned residual oil during the interruptible period. The current definition, however, does not clearly state that the exemption applies only when there is a shortage of natural gas.

II. Summary of SIP Revision

On October 31, 2005, the State submitted a SIP revision request which concerned clarification of the definition of “interruptible gas service”. This SIP revision includes amendments to Regulation .01 under COMAR 26.11.09 Control of Fuel-burning Equipment, Stationary Internal Combustion Engines, and Certain Fuel-Burning Installations. Documentation of public participation was included in the submittal.

The amendment clarifies the definition of the term “interruptible gas service”. The revision clarifies that the gas supplier (utility) makes the decision to interrupt the gas service based on the availability of gas and not on the cost of fuel or other parameter. A user is not involved with the decision to interrupt gas service except when the user is notified that the service will be interrupted.

III. Proposed Action

EPA's review of this material indicates the revision will not cause or contribute to a violation of the NAAQS. EPA is proposing to approve the State of Maryland SIP revision concerning the clarification of the definition of “interruptible gas service”, which was submitted on October 31, 2005. EPA is soliciting public comments on the issues discussed in this document. These comments will be considered before taking final action.

IV. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355 (May 22, 2001)). This action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4). This proposed rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely proposes to approve a state rule implementing a Federal requirement, and does not alter the relationship or the distribution of power and responsibilities established in the Clean Air Act. This proposed rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order.

This proposed rule to approve revisions that clarify the definition of “interruptible gas service” does not impose an information collection burden under the provisions of the Paperwork Reduction Act of 1995 (44 U.S.C. 3501 et seq.).

List of Subjects in 40 CFR Part 52

Environmental protection, Air pollution control, Particulate matter, Reporting and recordkeeping requirements.

Authority: 42 U.S.C. 7401 et seq.

Dated: December 30, 2005.
Donald S. Welsh,
Regional Administrator, Region III.

[FR Doc. E6-221 Filed 1-11-06; 8:45 am]

BILLING CODE 6560-50-P